DEPARTMENT OF HOMELAND SECURITY

Federal Emergency Management Agency

44 CFR Part 67

[Docket No. FEMA-B-1002]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 2, 2008.

ADDRESSES: The corresponding preliminary Flood Insurance Rate Map (FIRM) for the proposed BFEs for each community are available for inspection at the community's map repository. The respective addresses are listed in the table below.

You may submit comments, identified by Docket No. FEMA-B-1002, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground ‸ Elevation in Local Tidal Datum: Existing | * Elevation in feet (NGVD) + Elevation in feet (NAVD) # Depth in feet above ground ‸ Elevation in Local Tidal Datum: Modified
Unincorporated Areas of Maui County, Hawaii
Hawaii | Unincorporated Areas of Maui County | Kaluaihakoko Stream | Approximately 25 feet upstream of confluence with Pacific Ocean | None | ‸3
|  |  | Approximately 500 feet upstream of Piilani Highway | None | ‸138
Hawaii | Unincorporated Areas of Maui County | Kamaole Gulch | Approximately 90 feet upstream of confluence with Pacific Ocean | None | ‸6
|  |  | Approximately 325 feet upstream of Piilani Highway | None | ‸120
Hawaii | Unincorporated Areas of Maui County | Waikapu Stream | Approximately 255 feet downstream of Kuihelani Highway | None | ‸191
|  |  | Approximately 1.6 miles upstream of Honoapiilani Highway | None | ‸781
* National Geodetic Vertical Datum.
+ North American Vertical Datum.
# Depth in feet above ground.
‸ Local Tidal Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Maui County
Maps are available for inspection at Maui County Planning Department, 250 South High Street, 2nd Floor, Wailuku, HI.
City of Norfolk, Virginia
Virginia | City of Norfolk | Chesapeake Bay | Approximately 320 feet north of the intersection of Ocean Avenue and 20th Street | +7.6 | +9.1
Virginia | City of Norfolk | Eastern Branch Elizabeth River | Approximately 500 feet southwest of Atlantic Street and Waterfront Avenue | +8.1 | +9.1
Virginia | City of Norfolk | Elizabeth River | Approximately 1650 feet west of the intersection of Redgate Avenue and Norfolk Southern Railroad Yard Access Road | +7.6 | +9.1
|  |  | Approximately at the waterfront edge of the Norfolk and Southern Railyard | +7.6 | +9.1
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Norfolk
Maps are available for inspection at 400 Granby Street, Norfolk, VA 23510.

Flooding source(s) | Location of referenced elevation ** | * Elevation in feet (NGVD) + Elevation in feet (NAVD) # Depth in feet above ground: Effective | * Elevation in feet (NGVD) + Elevation in feet (NAVD) # Depth in feet above ground: Modified | Communities affected
St. Clair County, Illinois, and Incorporated Areas
Catawba Creek | At confluence with Richland Creek | +497 | +493 | City of Belleville.
| Approximately 570 feet downstream of Catawba Avenue | +497 | +496
Douglas Creek | At confluence with Richland Creek | +433 | +432 | Unincorporated Areas of St. Clair County.
| Approximately 600 feet upstream of confluence with Richland Creek | +433 | +432
Kaskaskia River | At County Boundary with Randolph County | +395 | +392 | Unincorporated Areas of St. Clair County, Village of New Athens.
| Approximately 8,000 feet upstream of Illinois Central Railroad | +395 | +394
Little Silver Creek | At confluence with Silver Creek | +429 | +428 | Unincorporated Areas of St. Clair County.
| Approximately 7,900 feet upstream of Interstate Highway 62 Westbound | +432 | +431
Mississippi River | Approximately 7,390 feet downstream of Southern County Boundary with Monroe County | None | +420 | City of Centreville, City of East St. Louis, Unincorporated Areas of St. Clair County, Village of Alorton, Village of Brooklyn, Village of Cahokia, Village of Caseyville, Village of Dupo, Village of East Carondelet, Village of Fairmont City, Village of Sauget, Village of Washington Park.
| Approximately 4,435 feet upstream of Northern County Boundary with Madison County | None | +429
Northwest Tributary to Ogles Creek | At confluence with Unnamed Tributary to Ogles Creek | +534 | +531 | City of Ofallon.
| Approximately 110 feet upstream of the confluence with Unnamed Tributary to Ogles Creek | +534 | +533
Prairie Du Pont Diversion Channel | At confluence with Mississippi River | +423 | +422 | Unincorporated Areas of St. Clair County.
| Approximately 1,200 feet upstream of confluence with Mississippi River | +423 | +422
Richland Creek | Approximately 3,000 feet downstream of Schluetter-Germaine Road | +450 | +449 | City of Belleville, City of Ofallon, Unincorporated Areas of St. Clair County, Village of Shiloh, Village of Smithton, Village of Swansea.
| Approximately 1,090 feet upstream of North Green Mount Road | None | +530
Silver Creek | At confluence with Kaskaskia River | +395 | +394 | Unincorporated Areas of St. Clair County.
| Approximately 250 feet downstream of Five Forks Road | +395 | +394
Wolf Branch | At confluence with Richland Creek | +500 | +496 | Village of Swansea.
| Approximately 30 feet downstream of Morgan Street | +500 | +499
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Belleville
Maps are available for inspection at City Hall, Department of Economic Development and Planning, 101 South Illinois Street, Belleville, IL 62220.
City of Centreville
Maps are available for inspection at City Hall, 5800 Bond Avenue, Centreville, IL 62207.
City of East St. Louis
Maps are available for inspection at City Hall, 301 River Park Drive, East St. Louis, IL 62201.
City of Ofallon
Maps are available for inspection at City Hall, 255 South Lincoln Street, O'Fallon, IL 62269.
Unincorporated Areas of St. Clair County
Maps are available for inspection at County Courthouse, #10 Public Square, 2nd Floor, Belleville, IL 62220.
Village of Alorton
Maps are available for inspection at Village Hall, 4821 Bond Avenue, Alorton, IL 62207.
Village of Brooklyn
Maps are available for inspection at Village Hall, 312 South Fifth Street, Lovejoy, IL 62059.
Village of Cahokia
Maps are available for inspection at Village of Cahokia Annex Building, Department of Code Enforcement, 201 West Fourth Street, Cahokia, IL 62206.
Village of Caseyville
Maps are available for inspection at Village Hall, 909 South Main Street, Caseyville, IL 62232.
Village of Dupo
Maps are available for inspection at Village Hall, 100 North Second Street, Dupo, IL 62239.
Village of East Carondelet
Maps are available for inspection at Village Hall, 950 State Street, East Carondelet, IL 62240.
Village of Fairmont City
Maps are available for inspection at Village Hall, 2601 North 41st Street, Fairmont City, IL 62201.
Village of New Athens
Maps are available for inspection at Village Hall, 905 Spotsylvania Avenue, New Athens, IL 62264.
Village of Sauget
Maps are available for inspection at Village Hall, 2897 Falling Springs Road, Sauget, IL 62206.
Village of Shiloh
Maps are available for inspection at Village Hall, 1 Park Drive, Shiloh, IL 62269.
Village of Smithton
Maps are available for inspection at Village Hall, 101 South Main Street, Smithton, IL 62285.
Village of Swansea
Maps are available for inspection at Government Center, 1400 North Illinois Street, Swansea, IL 62226.
Village of Washington Park
Maps are available for inspection at Village Hall, 5218 North Park Drive, Washington Park, IL 62204.
Allen County, Kansas, and Incorporated Areas
Coon Creek | Approximately 0.60 mile downstream of Highway 54 | +955 | +954 | City of Iola, Unincorporated Areas of Allen County.
| Approximately 115 feet upstream of North Kentucky Street | +990 | +988
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Iola
Maps are available for inspection at 2 West Jackson, Iola, KS 66749.
Unincorporated Areas of Allen County
Maps are available for inspection at 1 North Washington, Iola, KS 66749.
Van Buren County, Michigan, and Incorporated Areas
Maple Creek | Approximately 0.4 mile upstream of Ollie Hosier Drive | None | +645 | Township of Bangor.
| Approximately 800 feet downstream of 34th Avenue | None | +648
South Branch Black River | Approximately 900 feet upstream of Kal-Haven Trail | None | +585 | City of South Haven.
| Downstream side of 71½ Street | None | +585
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of South Haven
Maps are available for inspection at 539 Phoenix Street, South Haven, MI 49090.
Township of Bangor
Maps are available for inspection at 32550 CR 687, Bangor, MI 49013.
Onondaga County, New York, and Incorporated Areas
Harbor Brook | Approximately 300 feet upstream of the confluence with Onondaga Lake | +371 | +372 | City of Syracuse, Town of Geddes, Town of Onondaga.
| Approximately 860 feet upstream of State Route 173 | +781 | +782
Limestone Creek | Approximately 2,990 feet upstream of North Manlius Road | +398 | +399 | Town of Manlius, Village of Fayetteville, Village of Manlius, Village of Minoa.
| Approximately 160 feet upstream of Pompey Center Road | +724 | +725
Meadow Brook | Confluence with Old Erie Canal Feeder | +431 | +429 | City of Syracuse, Town of Dewitt.
| Approximately 220 feet downstream of Meadow Brook Drive | +544 | +541
Ninemile Creek | Approximately 2,150 feet upstream of the confluence with Onondaga Lake | +372 | +371 | Town of Geddes, Town of Camillus, Town of Marcellus, Village of Camillus, Village of Marcellus.
| Approximately 350 feet upstream of Otisco Valley Road | None | +781
Onondaga Creek | Just upstream of Bear Street | None | +371 | City of Syracuse, Town of Onondaga.
| Approximately 1.1 miles upstream of Dorwin Avenue | +432 | +431
Skaneateles Creek | Approximately 1.4 miles downstream of Interstate 90 | +387 | +385 | Town of Elbridge, Town of Skaneateles, Village of Elbridge, Village of Jordan, Village of Skaneateles.
| Approximately 960 feet upstream of Kelley Street | +859 | +860
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Syracuse
Maps are available for inspection at City Hall, Syracuse, NY 13202.
Town of Camillus
Maps are available for inspection at 4600 West Genesee Street, Municipal Building, Syracuse, NY 13219.
Town of Dewitt
Maps are available for inspection at Town Hall, 5400 Butternut Drive, East Syracuse, NY 13057.
Town of Elbridge
Maps are available for inspection at Town of Elbridge Municipal Building, Jordan, NY 13080.
Town of Geddes
Maps are available for inspection at Town Hall, 1000 Woods Road, Solvay, NY 13209.
Town of Manlius
Maps are available for inspection at 301 Brooklea Drive, Fayetteville, NY 13066.
Town of Marcellus
Maps are available for inspection at Town Hall, 24 East Main Street, Marcellus, NY 13108.
Town of Onondaga
Maps are available for inspection at Town Offices, 4801 West Seneca Turnpike, Syracuse, NY 13215.
Town of Skaneateles
Maps are available for inspection at Town Offices, 24 Jordan Street, Skaneateles, NY 13152.
Village of Camillus
Maps are available for inspection at Village Hall, 37 Main Street, Camillus, NY 13031.
Village of Elbridge
Maps are available for inspection at 210 West Main Street, Elbridge, NY 13060.
Village of Fayetteville
Maps are available for inspection at 425 East Genesee Street, Fayetteville, NY 13066.
Village of Jordan
Maps are available for inspection at 7 Mechanis Street, Jordan, NY 13080.
Village of Manlius
Maps are available for inspection at 1 Arkie Albanese Avenue, Manlius, NY 13104.
Village of Marcellus
Maps are available for inspection at 6 Slocumbe Avenue, Marcellus, NY 13108.
Village of Minoa
Maps are available for inspection at 213 Osborne Street, Minoa, NY 13116.
Village of Skaneateles
Maps are available for inspection at 46 East Genesee Street, Skaneateles, NY 13152.
Caldwell County, North Carolina, and Incorporated Areas
Angley Creek | Approximately 300 feet upstream of the confluence with Gunpowder Creek | None | +1178 | Unincorporated Areas of Caldwell County, City of Lenoir, Town of Hudson.
| Approximately 600 feet upstream of Southeast Starcross Road | None | +1252
Gunpowder Creek | At the confluence with Catawba River | None | +936 | Unincorporated Areas of Caldwell County, City of Lenoir, Town of Granite Falls, Town of Hudson.
| Approximately 700 feet upstream of Southeast Applegate Court | None | +1321
Lower Creek | At the Burke/Caldwell County boundary | None | +1026 | Unincorporated Areas of Caldwell County, City of Lenoir, Town of Gamewell.
| Approximately 1,900 feet upstream of Cedar Rock Circle (State Road 1706) | +1130 | +1131
Zacks Fork Branch | At the confluence with Zacks Fork Creek | +1106 | +1104 | City of Lenoir.
| Approximately 1,350 feet upstream of the confluence with Zacks Fork Creek | +1106 | +1105
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lenoir
Maps are available for inspection at Lenoir City Hall, 801 West Avenue Northwest, 3rd Floor, Lenoir, NC.
Town of Gamewell
Maps are available for inspection at Gamewell Town Hall, 2750 Old Morganton Road, Lenoir, NC 28645.
Town of Granite Falls
Maps are available for inspection at Granite Falls Town Hall, 30 Park Square, Granite Falls, NC.
Town of Hudson
Maps are available for inspection at Hudson Town Hall, 550 Central Street, Hudson, NC.
Unincorporated Areas of Caldwell County
Maps are available for inspection at Caldwell County Courthouse, 1051 Harper Avenue, Lenoir, NC.

(Catalog of Federal Domestic Assistance No. 97.022, “Flood Insurance.”)

Dated: August 22, 2008.
David I. Maurstad,
Federal Insurance Administrator of the National Flood Insurance Program, Department of Homeland Security, Federal Emergency Management Agency.

[FR Doc. E8-20304 Filed 9-2-08; 8:45 am]

BILLING CODE 9110-12-P